DEPARTMENT OF VETERANS AFFAIRS

Advisory Committee on Minority Veterans, Notice of Meeting

The Department of Veterans Affairs (VA) gives notice under the Federal Advisory Committee Act, 5 U.S.C. App. 2., that the Advisory Committee on Minority Veterans (ACMV) will conduct a virtual site visit on May 3-May 5, 2022, with the Phoenix VA Healthcare System, Phoenix Regional Benefits Office, and National Memorial Cemetery of Arizona via MS Teams. The meeting sessions will begin and end as follows:

Dates | Times | Location
May 3, 2022 | 11:00 a.m.-3:00 p.m.—Eastern Standard Time (EST) | See MS Teams link and call-in information below.
May 4, 2022 | 11:00 a.m.-3:00 p.m. EST | See MS Teams link and call-in information below.
May 5, 2022 | 11:00 a.m.-3:00 p.m. EST | See MS Teams link and call-in information below.

This meeting sessions are open to the public.

The purpose of the Committee is to advise the Secretary on the administration of VA benefits and services to minority Veterans; assess the needs of minority Veterans; and evaluate whether VA compensation, medical and rehabilitation services, outreach, and other programs are meeting those needs. The Committee makes recommendations to the Secretary regarding such activities.

On Tuesday, May 3, the Committee will receive briefings from the VISN 22 Network Director, Phoenix VA Healthcare System. On Wednesday, May 4, the Committee will receive briefings from the Phoenix Regional Benefits Office and National Memorial Cemetery of Arizona. On Thursday, May 5, the Committee will conduct a virtual town hall meeting from 12:30 p.m. to 2:00 p.m. (eastern), receive Public Comments from 12:15 p.m. to 12:30 p.m. and conduct the Leadership Exit Briefing.

To access the meeting, please use the links or in information below.

May 3, 2022: ACMV Day 1 May 3 2022

Dial in 1 872-701-0185 Con ID: 974 775 551#

https://teams.microsoft.com/l/meetup-join/19%3ameeting_NTA2Mjg2NDEtNzY5Yi00MGFiLThiYjYtYmI1ZGM4YmU4MGRi%40thread.v2/0?context=%7b%22Tid%22%3a%22e95f1b23-abaf-45ee-821d-b7ab251ab3bf%22%2c%22Oid%22%3a%22b6b2e349-543a-4e81-b2f9-f02c696390ca%22%7d

May 4, 2022: ACMV Day 2 May 4 2022

Dial in 1 872-701-0185 Con ID: 149 098 576#

https://teams.microsoft.com/l/meetup-join/19%3ameeting_ZmJiN2QwNzctMjkxMy00YTQ3LWI1NzktZmU5YThlN2ViMTI0%40thread.v2/0?context=%7b%22Tid%22%3a%22e95f1b23-abaf-45ee-821d-b7ab251ab3bf%22%2c%22Oid%22%3a%22b6b2e349-543a-4e81-b2f9-f02c696390ca%22%7d

May 5, 2022: ACMV Day 3 May 5 2022

Dial in 1 872-701-0185 Con ID: 472 361 940#

https://teams.microsoft.com/l/meetup-join/19%3ameeting_NTA2Mjg2NDEtNzY5Yi00MGFiLThiYjYtYmI1ZGM4YmU4MGRi%40thread.v2/0?context=%7b%22Tid%22%3a%22e95f1b23-abaf-45ee-821d-b7ab251ab3bf%22%2c%22Oid%22%3a%22b6b2e349-543a-4e81-b2f9-f02c696390ca%22%7d

If you are not able to get into the meeting, try https://www.microsoft.com/en-us/microsoft-teams/download-app. Or call USA Toll Number 1 872-701-0185 and enter the Conference ID for each day.

Individuals who speak are invited to submit a 1-2-page summary of their comments no later than April 26, 2022, for inclusion in the official meeting record. Members of the public may also submit written statements for the Committee's review to Mr. Dwayne E. Campbell, at Dwayne.Campbell3@va.gov. Any member of the public seeking additional information should contact Mr. Campbell or Mr. Ronald Sagudan (202) 461-6191.

Dated: April 1, 2022.
Jelessa M. Burney,
Federal Advisory Committee Management Officer.

[FR Doc. 2022-07256 Filed 4-5-22; 8:45 am]

BILLING CODE 8320-01-P